DEPARTMENT OF TRANSPORTATION

Surface Transportation Board

[STB Docket No. FD 35874]

Lone Star Railroad, Inc. and Southern Switching Company—Track Construction and Operation Exemption—in Howard County, Tex

AGENCY: Surface Transportation Board.

ACTION: Issuance of Draft Environmental Assessment; Request for Comments.

SUMMARY: On February 24, 2015, Applicants, Lone Star Railroad, Inc. (LSR) and Southern Switching Company (SSC), filed a petition with the Surface Transportation Board (Board) pursuant to 49 United States Code (U.S.C.) 10502 and 49 Code of Federal Regulations (CFR) 1121.1. The Board's Office of Environmental Analysis (OEA) is responsible for ensuring the Board's compliance with the requirements of the National Environmental Policy Act. Applicants seek Board authority for LSR to construct and SSC to operate approximately 3.18 miles of rail line that would connect to an existing Union Pacific Railroad Company mainline and provide rail service to an industrial park property near Big Spring, in Howard County, Texas. The primary purpose for the proposed action is the efficient delivery of frac sand by rail to the industrial park property, where it would be transloaded to trucks for delivery to crude oil wellhead locations in the Permian Basin. Applicants anticipate that the proposed rail line would support an average of five trains per week.

Today, OEA has issued the Draft Environmental Assessment (EA), which is available on the Board's Web site, ww.stb.dot.gov, by clicking “Decisions” under “Quick Links,” and locating the document under the service date of 10/16/2015. The Draft EA identifies the natural and man-made resources in the area of the proposed rail line and analyzes the potential impacts of the proposal on these resources. Based on the information provided from all sources to date and its independent analysis, OEA preliminarily concludes that construction of the proposed rail line would have no significant environmental impacts if the Board imposes and Applicants implement the recommended mitigation measures set forth in the Draft EA.

DATES: Interested parties are invited to submit written comments on the Draft EA by November 16, 2015. OEA will consider and respond to comments received on the Draft EA in the Final EA. The Board will issue a final decision on the proposed transaction after issuance of the Final EA.

Filing Environmental Comments: Comments submitted by mail should be addressed to: Kenneth Blodgett, Surface Transportation Board, 395 E Street SW., Washington, DC 20423-0001, Attention: Environmental Filing, Docket No. FD 35874. Comments may also be submitted electronically on the Board's Web site, www.stb.dot.gov, by clicking on the “E-FILING” link on the home page and then selecting “Environmental Comments.” Please refer to Docket No. FD 35874 in all correspondence, including e-filings, addressed to the Board.

FOR FURTHER INFORMATION CONTACT: Kenneth Blodgett at the address above or by phone at 202-245-0305. Assistance for the hearing impaired is available through the Federal Information Relay Service (FIRS) at 1-800-877-8339.

By the Board, Victoria Rutson, Director, Office of Environmental Analysis.
Tia Delano,
Clearance Clerk.

[FR Doc. 2015-26313 Filed 10-15-15; 8:45 am]

BILLING CODE 4915-01-P